DEPARTMENT OF ENERGY

10 CFR Part 430

[Docket No. EERE-2010-BT-STD-0005]

RIN 1904-AC15

Energy Conservation Program for Consumer Products: Energy Conservation Standards for Certain Small Diameter, Elliptical Reflector, and Bulged Reflector Incandescent Reflector Lamps

AGENCY: Office of Energy Efficiency and Renewable Energy, Department of Energy.

ACTION: Notice of public meeting and availability of a framework document.

SUMMARY: Pursuant to the Energy Policy and Conservation Act (EPCA), the U.S. Department of Energy (DOE) is preparing a notice of proposed rulemaking regarding energy conservation standards for certain incandescent reflector lamps (IRLs) that have elliptical reflector (ER) or bulged reflector (BR) bulb shapes, and for certain IRLs with diameters of 2.50 inches. DOE will hold a public meeting to discuss and receive comments on the product classes that DOE plans to analyze for the purpose of amending energy conservation standards for certain IRLs, and the analytical approach, models, and tools that DOE is using to evaluate standards for these products. DOE encourages written comments on these subjects. To inform interested parties and facilitate this process, DOE has prepared a framework document describing the analytical approaches DOE anticipates using to evaluate potential standards for these lamps.

DATES: DOE will hold a public meeting on Wednesday, May 26, 2010 from 9 a.m. to 5 p.m. in Washington, DC. DOE must receive requests to speak at the public meeting before 4 p.m., Wednesday, May 12, 2010. DOE must receive a signed original and an electronic copy of statements to be given at the public meeting before 4 p.m., Wednesday, May 19, 2010. DOE will accept comments, data, and information before and after the public meeting, but no later than June 17, 2010.

ADDRESSES: The public meeting will be held at the U.S. Department of Energy, Forrestal Building, Room 8E-089, 1000 Independence Avenue, SW., Washington, DC 20585-0121. To attend the public meeting, please notify Ms. Brenda Edwards at (202) 586-2945. Please note that foreign nationals visiting DOE Headquarters are subject to advance security screening procedures. Any foreign national wishing to participate in the meeting should advise DOE as soon as possible by contacting Ms. Brenda Edwards to initiate the necessary procedures.

Any comments submitted must identify the notice of public meeting (NOPM) for Energy Conservation Standards for Certain Incandescent Reflector Lamps, and provide the docket number EERE-2010-BT-STD-0005 and/or regulatory information number (RIN) 1904-AC15. Comments may be submitted using any of the following methods:

1. Federal eRulemaking Portal: http://www.regulations.gov. Follow the instructions for submitting comments.

2. E-mail: IRL-2010-STD-0005@ee.doe.gov. Include docket number EERE-2010-BT-STD-0005 and/or RIN: 1904-AC15 in the subject line of the message.

3. Postal Mail: Ms. Brenda Edwards, U.S. Department of Energy, Building Technologies Program, Mailstop EE-2J, Public Meeting for Certain Incandescent Reflector Lamps, EE-2009-BT-STD-0022, 1000 Independence Avenue, SW., Washington, DC 20585-0121. Please submit one signed paper original.

4. Hand Delivery/Courier: Ms. Brenda Edwards, U.S. Department of Energy, Building Technologies Program, 950 L'Enfant Plaza, SW., Suite 600, Washington, DC 20024. Telephone: (202) 586-2945. Please submit one signed paper original.

Docket: For access to the docket to read background documents or comments received, visit the U.S. Department of Energy, Resource Room of the Building Technologies Program, 950 L'Enfant Plaza, SW., Suite 600, Washington, DC (202) 586-2945, between 9 a.m. and 4 p.m., Monday through Friday, except Federal holidays. Please call Ms. Brenda Edwards at the above telephone number for additional information regarding visiting the Resource Room. DOE's framework document is available at: http://www1.eere.energy.gov/buildings/appliance_standards/residential/incandescent_lamps.html.

FOR FURTHER INFORMATION CONTACT: Ms. Margaret Sullivan, U.S. Department of Energy, Office of Energy Efficiency and Renewable Energy, Building Technologies, EE-2J, 1000 Independence Avenue, SW., Washington, DC 20585-0121. Telephone: (202) 287-1604. E-mail: Margaret.Sullivan@ee.doe.gov.

Mr. Eric Stas, U.S. Department of Energy, Office of the General Counsel, GC-71, 1000 Independence Avenue, SW., Washington, DC 20585-0121. Telephone: (202) 586-9507. E-mail: Eric.Stas@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone: (202) 586-2945. E-mail: Brenda.Edwards@ee.doe.gov.

SUPPLEMENTARY INFORMATION:

I. Authority

Title III of the Energy Policy and Conservation Act of 1975 (42 U.S.C. 6291 et seq.) (EPCA or the Act) established the Energy Conservation Program for Consumer Products Other Than Automobiles, covering major household appliances. Subsequent amendments expanded Title III of EPCA to include additional consumer products and certain commercial and industrial equipment. In particular, the Energy Policy Act of 1992 (EPACT 1992) included amendments to EPCA that added as covered products certain IRLs with wattages of 40 watts (W) or higher, and that established energy conservation standards for these IRLs. In defining the term “incandescent reflector lamp,” EPACT 1992 excluded lamps with ER and BR bulb shapes, and with diameters of 2.75 inches or less. Therefore, such IRLs were neither included as covered products nor subject to EPCA's standards for IRLs.

However, section 322(a)(1) of the Energy Independence and Security Act of 2007 (EISA 2007) subsequently amended EPCA to expand the Act's definition of “incandescent reflector lamp” to include lamps with a diameter between 2.25 and 2.75 inches, as well as lamps with ER, BR, bulged parabolic aluminized reflector (BPAR), or similar bulb shapes. (42 U.S.C. 6291(30)(C)(ii) and (F)) Consequently, these lamps became covered products subject to EPCA's standards for IRLs, except that section 322(b) of EISA 2007 also amended EPCA to exempt from the IRL standards the following categories of these lamps: (1) Lamps rated 50 watts or less that are ER30, BR30, BR40, or ER40; (2) lamps rated 65 watts that are BR30, BR40, or ER40 lamps; and (3) R20 incandescent reflector lamps rated 45 watts or less (lamps that have a diameter of 2.5 inches or less, such as R20 lamps, are commonly referred to as small diameter lamps). (42 U.S.C. 6295(i)(1)(C)) (Hereafter, DOE refers to these lamps collectively as the “exempt IRLs.”)

In a recent rulemaking to consider amending EPCA's standards for IRLs and certain other types of lamps, DOE initially concluded that it lacked authority to set standards for the exempt IRLs. 74 FR 16920, 16930 (April 13, 2009). DOE also concluded, therefore, that these lamps were not covered by the EPCA directive (42 U.S.C. 6295(i)) that DOE consider amending the Act's standards for IRLs and other lamps. However, upon consideration of the comments it received in that rulemaking, DOE decided to reexamine these conclusions. 74 FR 16920, 16930-31 (April 13, 2009); 74 FR 34080, 34092 (July 14, 2009).

DOE has undertaken this reexamination and has now concluded, for the reasons that follow, that it has the authority under EPCA to adopt standards for the exempt IRLs, and that these lamps are covered by the directive in 42 U.S.C. 6295(i) to amend EPCA's standards for IRLs. First, by amending the definition of “incandescent reflector lamp” (42 U.S.C. 6291(30)(C)(ii) and (F)), EISA 2007 effectively brought ER, BR, and small diameter lamps into the Federal energy conservation standards program as covered product, thereby granting DOE regulatory authority. Additionally, although 42 U.S.C. 6295(i)(1)(C) exempts certain ER, BR, and small diameter lamps from statutorily-prescribed standards, EISA 2007 grants DOE authority to amend the standards laid out in 42 U.S.C. 6295(i)(1), which includes subparagraph (C). As a result, the statutory text did not exempt the bulbs from future regulation, only from the specified minimum standards in 42 U.S.C. 6295(i)(1). Consequently, DOE is conducting this rulemaking to address the potential for development of energy conservation standards for the exempt IRLs.

DOE must design any new or amended standard for these products to achieve the maximum improvement in energy efficiency that is technologically feasible and economically justified. Any standard must also result in significant conservation of energy. (42 U.S.C. 6295(o)(2)(A) and (3)) To determine whether a proposed standard is economically justified, DOE must, after receiving comments on the proposed standard, determine whether the benefits of the standard exceed its burdens to the greatest extent practicable, weighing the following seven factors:

1. The economic impact of the standard on manufacturers and consumers of products subject to the standard;

2. The savings in operating costs throughout the estimated average life of the covered products in the type (or class) compared to any increase in the price, initial charges, or maintenance expenses for the covered products which are likely to result from the imposition of the standard;

3. The total projected amount of energy savings likely to result directly from the imposition of the standard;

4. Any lessening of the utility or the performance of the covered products likely to result from the imposition of the standard;

5. The impact of any lessening of competition, as determined in writing by the Attorney General, that is likely to result from the imposition of the standard;

6. The need for national energy conservation; and

7. Other factors the Secretary [of Energy] considers relevant.

(42 U.S.C. 6295(o)(2)(B)(i)(I)-(VII))

II. History of Standards Rulemaking for ER, BR, and Small Diameter Incandescent Reflector Lamps

A. Background

As indicated above, EISA 2007 amended EPCA both to add as covered products the exempt IRLs (42 U.S.C. 6291(30)(C)(ii) and (F)) and to exempt them from EPCA's energy conservation standards for IRLs (42 U.S.C. 6295(i)(1)(C)). As also indicated above, DOE initially concluded that it lacked authority to adopt standards for the exempt IRLs. Accordingly, in the recent lamps standards rulemaking, DOE's analyses did not examine whether standards for these IRLs might be warranted. (74 FR 34080, July 14, 2009) Based upon a reexamination of its authority, DOE decided to conduct this separate rulemaking to assess energy conservations standards for the exempt IRLs.

B. Current Rulemaking Process

This NOPM represents the first step in the process to consider adoption of energy conservation standards for the exempt IRLs. Because the previous rulemaking for IRLs was completed relatively recently, DOE possesses methodologies for all stages of the analysis that have already been vetted and revised according to public comments. Accordingly, DOE intends to present the results of its analyses in the notice of proposed rulemaking (NOPR) phase. DOE is issuing this NOPM with the intention of receiving as much feedback as possible regarding the methodologies, data, and key assumptions that will be used for the analyses before performing the NOPR analyses. The analyses and proposed methodologies that will be used for the NOPR phase of this rulemaking are described in detail in the framework document, available at the web link provided in the ADDRESSES section of this notice.

III. Summary of the Analyses To Be Performed

For the exempt IRLs, DOE is planning to conduct in-depth technical analyses for the NOPR in the following areas: (1) Engineering; (2) energy-use characterization; (3) product price; (4) life-cycle cost (LCC) and payback period (PBP); (5) national impacts analysis (NIA); (6) manufacturer impact analysis; (7) utility impact analysis; (8) employment impact analysis; (9) environmental assessment; and (10) regulatory impact analysis. DOE will also conduct several other analyses that support those previously listed, including the market and technology assessment, the screening analysis (which contributes to the engineering analysis), and the shipments analysis (which contributes to the national impact analysis). These analyses are described in further detail below. In the framework document, DOE describes the methodologies and key data sources for these analyses, and sets forth issues for which DOE seeks public comment. The framework document is available at the web address given in the ADDRESSES section of this notice.

A. Engineering Analysis

The engineering analysis establishes the relationship between the manufacturer selling price and the efficiency of the product. This relationship serves as the basis for cost-benefit calculations for individual consumers, manufacturers, and the nation. The engineering analysis identifies representative baseline models, which is the starting point for analyzing technologies that provide energy efficiency improvements. A baseline model refers to a model or models having features and technologies typically found in the least efficient, most common products currently offered for sale. Section 2.5 of the framework document discusses the engineering analysis.

B. Energy Use Characterization

The energy use characterization provides estimates of annual energy consumption for exempt IRL, which DOE uses in the LCC and PBP analyses and the NIA. DOE develops energy consumption estimates for all of the product classes analyzed in the engineering analysis as the basis for its energy use estimates. Section 2.6 of the framework document provides detail on the energy use characterization.

C. Life-Cycle Cost and Payback Period Analyses

The LCC and PBP analyses determine the economic impact of potential standards on individual consumers. The LCC is the total consumer expense for a product over the life of the product. The LCC analysis compares the LCCs of products designed to meet possible energy conservation standards with the LCCs of the products likely to be installed in the absence of standards. DOE determines LCCs by considering (1) Total installed cost to the purchaser (which consists of manufacturer selling price, sales taxes, distribution chain markups, and installation cost); (2) the operating expenses of the products (energy use and maintenance); (3) product lifetime; and (4) a discount rate that reflects the real consumer cost of capital and puts the LCC in present-value terms. The PBP represents the number of years needed to recover the increase in purchase price (including installation cost) of more efficient products through savings in the operating cost of the product. PBP is equal to the change in total installed cost due to increased efficiency divided by the change in annual operating cost from increased efficiency. Section 2.8 of the framework document provides detail on the LCC and PBP analyses.

D. National Impact Analysis

The NIA estimates the national energy savings (NES) and the net present value (NPV) of total consumer costs and savings expected to result from new standards at specific efficiency levels (referred to as candidate standard levels). DOE calculates NES and NPV for each candidate standard level as the difference between a base-case forecast (without new standards) and the standards-case forecast (with standards). DOE determines national annual energy consumption by multiplying the number of units in use by the average unit energy consumption. Cumulative energy savings are the sum of the annual NES determined over a specified time period. The national NPV is the sum over time of the discounted net savings each year, which consists of the difference between total operating cost savings and increases in total installed costs. Critical inputs to this analysis include shipments projections, retirement rates (based on estimated product lifetimes), and estimates of changes in shipments and retirement rates in response to changes in product costs due to standards. Section 2.10 of the framework document provides detail on the NIA.

E. Manufacturer Impact Analysis

The purpose of the manufacturer impact analysis (MIA) is to identify and quantify the likely impacts of amended energy conservation standards on manufacturers of exempt IRL. Using industry research, public comments, and interviews with manufacturers and other interested parties, DOE will analyze and consider a wide range of quantitative and qualitative industry impacts that may occur due to amended energy conservation standards. Based on the information gathered during interviews and other research, DOE will assess impacts on competition, manufacturing capacity, employment, and regulatory burden. Section 2.12 of the framework document provides detail on the MIA.

F. Utility Impact Analysis

The utility impact analysis examines the effects of amended energy conservation standards on the installed generation capacity of electric, gas, and oil utilities. The utility impact analysis reports the changes in installed capacity and generation between the base case and the standards cases that result from each standard level by plant type. Section 2.13 of the framework document provides detail on the utility impact analysis.

G. Employment Impact Analysis

The employment impact analysis will estimate indirect national job creation or elimination resulting from possible standards. Indirect employment impacts may result from expenditures shifting between goods (the substitution effect) and changes in income and overall expenditure levels (the income effect) that occur due to the standards. DOE defines indirect employment impacts from standards as net jobs eliminated or created in the general economy as a result of increased spending driven by increased equipment prices and reduced spending on energy. Section 2.14 of the framework document provides detail on the employment impact analysis.

H. Environmental Assessment

The purpose of the environmental assessment is to quantify and consider the environmental effects of amended energy conservation standards for exempt IRL. The environmental assessment will assess impacts of amended energy conservation standards on the following types of energy-related emissions—carbon dioxide (CO2), oxides of nitrogen (NOX), sulfur dioxide (SO2), and mercury (Hg). As part of the environmental assessment, DOE plans to monetize the benefits associated with emissions reductions using a range of values. Section 2.15 and 2.16 of the framework document provide detail on the environmental assessment and monetization.

I. Regulatory Impact Analysis

The regulatory impact analysis addresses the potential for non-regulatory approaches to supplant or augment energy conservation standards in order to improve the energy efficiency or reduce the energy consumption of the products covered under this rulemaking. DOE will base its assessment on the actual impacts of any such initiatives to date, but will also consider information presented regarding the impacts that any existing initiative might have in the future. Section 2.17 of the framework document provides detail on the regulatory impact analysis.

J. Additional Supporting Analyses

DOE will also conduct several analyses that support the analyses listed above, including the market and technology assessment and the screening analysis, which contribute to the engineering analysis, and the shipments analysis, which contributes to the NIA. DOE also conducts an LCC subgroup analysis, which evaluates economic impacts on selected groups of consumers who might be adversely affected by a change in the national energy conservation standards for the covered products. Please see the framework document for further details on these analyses.

IV. Public Participation

DOE considers public participation to be a very important part of the process for setting energy conservation standards. DOE actively encourages the participation and interaction of the public during the comment period at each stage of the rulemaking process. Beginning with the NOPM, and during each subsequent public meeting and comment period, interactions with and between members of the public provide a balanced discussion of the issues to assist DOE in the standards rulemaking process.

Accordingly, DOE encourages those who wish to participate in the public meeting to obtain the framework document from DOE's Web site and to be prepared to discuss its contents. However, public meeting participants need not limit their comments to the topics identified in the framework document. DOE is also interested in receiving views and information concerning other relevant issues that participants believe would affect energy conservation standards for these products or that DOE should address in the NOPR.

Furthermore, DOE welcomes all interested parties, regardless of whether they participate in the public meeting, to submit in writing by June 17, 2010, comments and information on matters addressed in the framework document and on other matters relevant to consideration of standards for the exempt IRLs.

The public meeting will be conducted in an informal, conference style. A court reporter will be present to record the minutes of the meeting. There shall be no discussion of proprietary information, costs or prices, market shares, or other commercial matters regulated by United States antitrust laws.

After the public meeting and the expiration of the period for submitting written statements, DOE will consider all comments and additional information that is obtained from interested parties or through further analyses, and it will prepare a NOPR which will be published in the Federal Register. The NOPR will include proposed energy conservation standards for the products covered by the rulemaking, and members of the public will be given an opportunity to submit written and oral comments on the proposed standards.

Issued in Washington, DC, on April 23, 2010.
Cathy Zoi,
Assistant Secretary, Energy Efficiency and Renewable Energy.

[FR Doc. 2010-10104 Filed 4-30-10; 8:45 am]

BILLING CODE 6450-01-P